DEPARTMENT OF ENERGY

Federal Energy Regulatory Commission

Combined Notice of Filings

Take notice that the Commission has received the following Natural Gas Pipeline Rate and Refund Report filings:

Docket Numbers: RP17-204-001.

Applicants: Pine Needle LNG Company, LLC.

Description: Motion to Amend Settlement and Request for Shortened Answer Period and Expedited Action of Pine Needle LNG Company, LLC under RP17-204.

Filed Date: 3/31/20.

Accession Number: 20200331-5476.

Comments Due: 5 p.m. ET 4/6/20.

Docket Numbers: RP20-708-000.

Applicants: Natural Gas Pipeline Company of America.

Description: Compliance filing Penalty Revenue Crediting Report from July through December 2019.

Filed Date: 3/31/20.

Accession Number: 20200331-5004.

Comments Due: 5 p.m. ET 4/13/20.

Docket Numbers: RP20-709-000.

Applicants: Horizon Pipeline Company, L.L.C.

Description: Compliance filing Horizon Penalty Revenue Crediting Report for Year 2019.

Filed Date: 3/31/20.

Accession Number: 20200331-5005.

Comments Due: 5 p.m. ET 4/13/20.

Docket Numbers: RP20-710-000.

Applicants: Equitrans, L.P.

Description: § 4(d) Rate Filing: Negotiated Rate Agreement—Mercuria 4/1/2020 to be effective 4/1/2020.

Filed Date: 3/31/20.

Accession Number: 20200331-5011.

Comments Due: 5 p.m. ET 4/13/20.

Docket Numbers: RP20-711-000.

Applicants: Equitrans, L.P.

Description: § 4(d) Rate Filing: Negotiated Rate Agreement—BP 4/1/2020 to be effective 4/1/2020.

Filed Date: 3/31/20.

Accession Number: 20200331-5012.

Comments Due: 5 p.m. ET 4/13/20.

Docket Numbers: RP20-712-000.

Applicants: Algonquin Gas Transmission, LLC.

Description: § 4(d) Rate Filing: Negotiated Rates—Keyspan 510369 4-1-2020 Releases to be effective 4/1/2020.

Filed Date: 3/31/20.

Accession Number: 20200331-5013.

Comments Due: 5 p.m. ET 4/13/20.

Docket Numbers: RP20-713-000.

Applicants: Texas Eastern Transmission, LP.

Description: § 4(d) Rate Filing: Negotiated Rate—Chevron 911109 release eff 4-1-20 to be effective 4/1/2020.

Filed Date: 3/31/20.

Accession Number: 20200331-5015.

Comments Due: 5 p.m. ET 4/13/20.

Docket Numbers: RP20-714-000.

Applicants: Algonquin Gas Transmission, LLC.

Description: § 4(d) Rate Filing: Negotiated Rate—Bug Co Nat 799989 Release to Greenlight 801749 to be effective 4/1/2020.

Filed Date: 3/31/20.

Accession Number: 20200331-5016.

Comments Due: 5 p.m. ET 4/13/20.

Docket Numbers: RP20-715-000.

Applicants: Equitrans, L.P.

Description: § 4(d) Rate Filing: FOSA Effective Date Clarification to be effective 5/1/2020.

Filed Date: 3/31/20.

Accession Number: 20200331-5017.

Comments Due: 5 p.m. ET 4/13/20.

Docket Numbers: RP20-716-000.

Applicants: Texas Eastern Transmission, LP.

Description: § 4(d) Rate Filing: Negotiated Rate—Gulfport to EcoEnergy 8962999 eff 4-1-20 to be effective 4/1/2020.

Filed Date: 3/31/20.

Accession Number: 20200331-5026.

Comments Due: 5 p.m. ET 4/13/20.

Docket Numbers: RP20-717-000.

Applicants: Trailblazer Pipeline Company LLC.

Description: § 4(d) Rate Filing: TPC 2020-03-31 Negotiated Rate Agreements to be effective 4/1/2020.

Filed Date: 3/31/20.

Accession Number: 20200331-5032.

Comments Due: 5 p.m. ET 4/13/20.

Docket Numbers: RP20-718-000.

Applicants: Transcontinental Gas Pipe Line Company, LLC.

Description: § 4(d) Rate Filing: Rate Schedules LSS and SS-2 Tracker Filing effective May 1, 2020 to be effective 5/1/2020.

Filed Date: 3/31/20.

Accession Number: 20200331-5053.

Comments Due: 5 p.m. ET 4/13/20.

Docket Numbers: RP20-719-000.

Applicants: NEXUS Gas Transmission, LLC.

Description: § 4(d) Rate Filing: Negotiated Rates—Columbia Gas 860005 4-1-2020 Releases to be effective 4/1/2020.

Filed Date: 3/31/20.

Accession Number: 20200331-5059.

Comments Due: 5 p.m. ET 4/13/20.

Docket Numbers: RP20-720-000.

Applicants: Pine Needle LNG Company, LLC.

Description: § 4(d) Rate Filing: 2020 Annual Fuel and Electric Power Tracker Filing to be effective 5/1/2020.

Filed Date: 3/31/20.

Accession Number: 20200331-5068.

Comments Due: 5 p.m. ET 4/13/20.

Docket Numbers: RP20-721-000.

Applicants: Iroquois Gas Transmission System, L.P.

Description: Compliance filing 033120 Annual Fuel and Losses Retention Calculations.

Filed Date: 3/31/20.

Accession Number: 20200331-5072.

Comments Due: 5 p.m. ET 4/13/20.

Docket Numbers: RP20-722-000.

Applicants: Transcontinental Gas Pipe Line Company, LLC.

Description: § 4(d) Rate Filing: Negotiated Rates—Cherokee AGL—Replacement Shippers—Apr 2020 to be effective 4/1/2020.

Filed Date: 3/31/20.

Accession Number: 20200331-5075.

Comments Due: 5 p.m. ET 4/13/20.

Docket Numbers: RP20-723-000.

Applicants: Algonquin Gas Transmission, LLC.

Description: § 4(d) Rate Filing: Negotiated Rates—ConEd 510371 Apr2020 Releases to be effective 4/1/2020.

Filed Date: 3/31/20.

Accession Number: 20200331-5095.

Comments Due: 5 p.m. ET 4/13/20.

Docket Numbers: RP20-724-000.

Applicants: Equitrans, L.P.

Description: § 4(d) Rate Filing: Expired Negotiated Rate Agreement— 3/31/2020 to be effective 5/1/2020.

Filed Date: 3/31/20.

Accession Number: 20200331-5100.

Comments Due: 5 p.m. ET 4/13/20.

Docket Numbers: RP20-725-000.

Applicants: El Paso Natural Gas Company, L.L.C.

Description: § 4(d) Rate Filing: Negotiated Rate Agreement Filing (Upstream Energy) to be effective 4/1/2020.

Filed Date: 3/31/20.

Accession Number: 20200331-5111.

Comments Due: 5 p.m. ET 4/13/20.

Docket Numbers: RP20-727-000.

Applicants: El Paso Natural Gas Company, L.L.C.

Description: § 4(d) Rate Filing: Non-Conforming Agreement Update (SWG 2020) to be effective 5/1/2020.

Filed Date: 3/31/20.

Accession Number: 20200331-5146.

Comments Due: 5 p.m. ET 4/13/20.

Docket Numbers: RP20-728-000.

Applicants: Texas Eastern Transmission, LP.

Description: § 4(d) Rate Filing: Nextera NRA releases to Colonial & UGI eff 4-1-2020 to be effective 4/1/2020.

Filed Date: 3/31/20.

Accession Number: 20200331-5160.

Comments Due: 5 p.m. ET 4/13/20.

Docket Numbers: RP20-729-000.

Applicants: Texas Eastern Transmission, LP.

Description: § 4(d) Rate Filing: Negotiated Rates—UGI 8962716 to Eco 8963124 to be effective 4/1/2020.

Filed Date: 3/31/20.

Accession Number: 20200331-5194.

Comments Due: 5 p.m. ET 4/13/20.

Docket Numbers: RP20-730-000.

Applicants: Dauphin Island Gathering Partners.

Description: § 4(d) Rate Filing: Negotiated Rate Filing—Cox 3-31-2020 to be effective 4/1/2020.

Filed Date: 3/31/20.

Accession Number: 20200331-5203.

Comments Due: 5 p.m. ET 4/13/20.

Docket Numbers: RP20-731-000.

Applicants: Rockies Express Pipeline LLC.

Description: § 4(d) Rate Filing: REX 2020-03-31 Negotiated Rate Agreements to be effective 4/1/2020.

Filed Date: 3/31/20.

Accession Number: 20200331-5218.

Comments Due: 5 p.m. ET 4/13/20.

Docket Numbers: RP20-732-000.

Applicants: BBT Midla, LLC.

Description: Compliance filing BBT (MidLa), LLC Docket No. CP15-523 Cost and Revenue Study.

Filed Date: 3/31/20.

Accession Number: 20200331-5227.

Comments Due: 5 p.m. ET 4/13/20.

Docket Numbers: RP20-733-000.

Applicants: Gulf South Pipeline Company, LLC.

Description: § 4(d) Rate Filing: Cap Rel Neg Rate Agmts (FPL 41618, 41619 releases eff 4-1-20) to be effective 4/1/2020.

Filed Date: 3/31/20.

Accession Number: 20200331-5230.

Comments Due: 5 p.m. ET 4/13/20.

Docket Numbers: RP20-734-000.

Applicants: Texas Gas Transmission, LLC.

Description: § 4(d) Rate Filing: Cap Rel Neg Rate Agmts (JayBee34446,34447,35450 to MacQuarie38592,38593,38594) to be effective 4/1/2020.

Filed Date: 3/31/20.

Accession Number: 20200331-5231.

Comments Due: 5 p.m. ET 4/13/20.

Docket Numbers: RP20-735-000.

Applicants: Texas Gas Transmission, LLC.

Description: § 4(d) Rate Filing: Cap Rel Neg Rate Agmts (Gulfport34939,35446 to Eco-Energy38613,38616,CIMA38595) to be effective 4/1/2020.

Filed Date: 3/31/20.

Accession Number: 20200331-5232.

Comments Due: 5 p.m. ET 4/13/20.

Docket Numbers: RP20-736-000.

Applicants: Transcontinental Gas Pipe Line Company, LLC.

Description: § 4(d) Rate Filing: Non-Conforming—Leidy Southeast Sequent to be effective 4/1/2020.

Filed Date: 3/31/20.

Accession Number: 20200331-5244.

Comments Due: 5 p.m. ET 4/13/20.

Docket Numbers: RP20-737-000.

Applicants: Northern Natural Gas Company.

Description: § 4(d) Rate Filing: 20200331 Negotiated Rate to be effective 4/1/2020.

Filed Date: 3/31/20.

Accession Number: 20200331-5275.

Comments Due: 5 p.m. ET 4/13/20.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified date(s). Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: April 2, 2020.
Nathaniel J. Davis, Sr.,
Deputy Secretary.

[FR Doc. 2020-07364 Filed 4-7-20; 8:45 am]

BILLING CODE 6717-01-P